NUCLEAR REGULATORY COMMISSION

Reactor Pressure Vessel Head Degradation and Reactor Coolant Pressure Boundary Integrity Issue

AGENCY: Nuclear Regulatory Commission.

ACTION: Notice of issuance.

SUMMARY: The Nuclear Regulatory Commission (NRC) has issued Bulletin (BL) 2002-01 to all holders of operating licenses for pressurized-water nuclear power reactors, except those who have permanently ceased operations and have certified that fuel has been permanently removed from the reactor pressure vessel. It addresses the recent discovery of degradation in the reactor pressure vessel head at the Davis-Besse Nuclear Power Station and the concerns this has raised about the structural integrity of the reactor coolant pressure boundary throughout the pressurized-water reactor (PWR) industry. The purpose of the bulletin is to require PWR licensees to submit (1) information related to the integrity of the reactor coolant pressure boundary including the reactor pressure vessel head, at their respective facilities, and the extent to which inspections have been undertaken to satisfy applicable regulatory requirements, and (2) the basis for concluding that their plants satisfy applicable regulatory requirements related to the structural integrity of the reactor coolant pressure boundary and future inspections will ensure continued compliance with applicable regulatory requirements. This information is necessary to permit the assessment of plant-specific compliance with NRC regulations. The information will also be used by the NRC staff to determine the need for and to guide the development of additional regulatory actions to address reactor coolant pressure boundary integrity.

DATES: The bulletin was issued on March 18, 2002.

FOR FURTHER INFORMATION CONTACT: Kenneth J. Karwoski, at (301) 415-2752 or by e-mail to kjk1@nrc.gov.

SUPPLEMENTARY INFORMATION: Bulletin 2002-01 may be examined and/or copied for a fee at the NRC's Public Document Room, located at One White Flint North, 11555 Rockville Pike (first floor), Rockville, Maryland, and is accessible electronically from the Agencywide Documents Access and Management Systems (ADAMS) Public Electronic Reading Room on the Internet at the NRC Web site, http://www.nrc.gov/reading-rm.html. The ADAMS Accession No. for the bulletin is ML020770497.

If you do not have access to ADAMS or if there are problems in accessing documents located in ADAMS, contact the NRC Public Document Room (PDR) Reference staff at 301-415-4737 or 1-800-397-4209, or by e-mail to pdr@nrc.gov.

Dated at Rockville, Maryland, this 19th day of March 2002.
For the Nuclear Regulatory Commission.
David B. Matthews,
Director, Division of Regulatory Improvement Programs, Office of Nuclear Reactor Regulation.

[FR Doc. 02-7218 Filed 3-25-02; 8:45 am]

BILLING CODE 7590-01-P